COMMISSION ON CIVIL RIGHTS

Notice of Public Meeting of the Oregon Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Oregon Advisory Committee (Committee) will hold a meeting via web conference on Tuesday, April 3, 2018, from 1:00 p.m.-2:30 p.m. PST for the purpose of hearing public testimony on human trafficking issues in the state.

DATES: The meeting will be held on Tuesday, April 3, 2018, at 1:00 p.m. PST.

FOR FURTHER INFORMATION CONTACT: Ana Victoria Fortes (DFO) at afortes@usccr.gov or (213) 894-3437.

SUPPLEMENTARY INFORMATION: Public Call Information: (audio only) Dial: 888-708-5689, Conference ID: 1169274.

Web Access Information: (visual only) The online portion of the meeting may be accessed through the following link: https://cc.readytalk.com/r/288pn2yb217b&eom.

Members of the public can listen to the discussion. This meeting is available to the public through the above listed toll-free number (audio only) and web access link (visual only). Please use both the call-in number and the web access link in order to follow the meeting. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meeting at https://facadatabase.gov/committee/meetings.aspx?cid=270.Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Welcome

II. Approve Minutes From Previous Meeting

III. Presentations

Colleen Owens, Senior Research Associate, Urban Institute

Kathleen Maloney, Willamette University College of Law, Professor and Author of Modern Slavery in Our Midst: A Human Rights Report on Ending Human Trafficking in Oregon

Hayley Weedn, Co-author and Researcher for Human Trafficking & Native Peoples in Oregon: A Human Rights

Christopher Carey, Researcher, Portland State University

IV. Public Comment

V. Next Steps

VI. Adjournment

David Mussatt,
Supervisory Chief, Regional Programs Unit.

[FR Doc. 2018-06272 Filed 3-28-18; 8:45 am]

BILLING CODE P